DEPARTMENT OF HOMELAND SECURITY

Federal Emergency Management Agency

[Docket ID FEMA-2018-0002; Internal Agency Docket No. FEMA-B-1871]

Changes in Flood Hazard Determinations

Correction

In notice document 2018-26937 beginning on page 64135 in the issue of Thursday, December 13, 2018 make the following correction:

1. In the table on page 64137, for the “State and County” entry of “North Carolina: Montgomery”, the “Date of Modification” in column six “Nov. 23, 2019” should read “Nov. 23, 2018”.

[FR Doc. C1-2018-26937 Filed 12-26-18; 8:45 am]

BILLING CODE 1301-00-D